DEPARTMENT OF TRANSPORTATION

Federal Aviation Administration

Approval of Noise Compatibility Program, Four Corners Regional Airport, Farmington, New Mexico

AGENCY: Federal Aviation Administration, DOT.

ACTION: Notice.

SUMMARY: The Federal Aviation Administration (FAA) announces its findings on the noise compatibility program submitted by the City of Farmington, New Mexico under the provisions of Title 49, USC, Chapter 475 and CFR part 150. These findings are made in recognition of the description of Federal and nonfederal responsibilities and Senate Report No. 96-52 (1980). On January 9, 2002, the FAA determined that the noise exposure maps submitted by the City of Farmington under Part 150 were in compliance with applicable requirements. On July 8, 2002, the Administrator approved the noise compatibility program. Most of the recommendations of the program were approved.

EFFECTIVE DATE: The effective date of the FAA's approval of the City of Farmington Noise Compatibility Program is July 8, 2002.

FOR FURTHER INFORMATION CONTACT: Joyce M. Porter, Department of Transportation, Federal Aviation Administration, 2601 Meacham Boulevard, Fort Worth, Texas, 76137, (817) 222-5640. Documents reflecting this FAA action may be reviewed at this same location.

SUPPLEMENTARY INFORMATION: This notice announces that the FAA has given its overall approval to the noise compatibility program for Four Corners Regional Airport, Farmington, New Mexico, effective July 8, 2002.

Under Title 49 USC, Section 47504 (hereinafter referred to as Title 49''), an airport operator who has previously submitted a noise exposure map may submit to the FAA a noise compatibility program which sets forth the measures taken or proposed by the airport operator for the reduction of existing non-compatible land uses within the area covered by the noise exposure maps. Title 49 requires such programs to be developed in consultation with interested and affected parties including local communities, government agencies, airport users, and FAA personnel.

Each airport noise compatibility program developed in accordance with Federal Aviation Regulations (FAR) Part 150 is a local program, not a Federal Program. The FAA does not substitute its judgment for that of the airport proprietor with respect to which measures should be recommended for action. The FAA's approval or disapproval of FAR Part 150 program recommendations is measured according to the standards expressed in Part 150 and Title 49 and is limited to the following determinations:

a. The noise compatibility program was developed in accordance with the provisions and procedures of FAR Part 150;

b. Program measures are reasonably consistent with achieving the goals of reducing existing non-compatible land uses around the airport and preventing the introduction of additional non-compatible land uses;

c. Program measures would not create an undue burden on interstate or foreign commerce, unjustly discrimination against types or classes of aeronautical uses, violate the terms of airport grant agreements, or intrude into areas preempted by the Federal Government; and

d. Program measures relating to the use of flight procedures can be implemented within the period covered by the program without derogating safety, adversely affecting the efficient use and management of the navigable airspace and air traffic control systems, or adversely affective other powers and responsibilities of the Administrator prescribed by law.

Specific limitations with respect to FAA's approval or an airport noise compatibility program are delineated in FAR Part 150, section 150.5. Approval is not a determination concerning the acceptability of land uses under Federal, state, or local law. Approval does not, by itself, constitute an FAA implementing action. A request for Federal action or approval to implement specific noise compatibility measures may be required, and an FAA decision on the request may require an environmental assessment of the proposed action. Approval does not constitute a commitment by the FAA to financially assist in the implementation of the program nor a determination that all measures covered by the program are eligible for grant-in-aid funding from the FAA. Where Federal funding is sought, requests for project grants must be submitted to the FAA Airports Division Office in Fort Worth, Texas.

The City of Farmington, New Mexico submitted to the FAA on December 26, 2001, the noise exposure maps, descriptions, and other documentation produced during the noise compatibility planning study conducted from August 10, 1999 through March 28 2002. The City of Farmington noise exposure maps were determined by FAA to be in compliance with applicable requirements on January 9, 2002. Notice of this determination was published in the Federal Register on March 1, 2002.

The Noise Compatibility Program Study contains a proposed noise compatibility program comprised of actions designed for phased implementation by airport management and adjacent jurisdictions from the date of study completion to the year 2007. It was requested that the FAA evaluate and approve this material as a noise compatibility program as described in Title 49. The FAA began its review of the program on April 12, 2002 and was required by provision of the Act to approve or disapprove the program within 180 days (other than the use of new flight procedures for noise control). Failure to approve or disapprove such program within the 180-day period shall be deemed to be an approval of such program.

The submitted program contained six proposed actions for noise mitigation (on and/or off) the airport. The FAA completed its review and determined that the procedural and substantive requirements of Title 49 and FAR Part 150 have been satisfied. The overall program, therefore, was approved by the Administrator or effective July 8, 2002.

Outright approval was granted for five of the six specific program elements. Elements #1 and #3 involved changes in utilization and improvements to engine run-up areas; Element #4 addressed use of general aviation noise abatement procedures; Element #5 involved land acquisition, avigation easements, and insultation options; and Element #6 addressed extension of noise contour zone 2. Element #2 was disapproved pending submission of additional information addressing utilization of other airports in the area.

These determination are set forth in detail in a Record of Approval endorsed by the Administrator on July 8, 2002. The Record of Approval, as well as other evaluation materials and the documents comprising the submittal, are available at the FAA office listed above and at the administrative offices of the City of Farmington, New Mexico.

Issued in Fort Worth, Texas, July 25, 2002.
Naomi L. Saunders,
Manager, Airports Division.

[FR Doc. 02-19559 Filed 8-1-02; 8:45 am]

BILLING CODE 4910-13-M